DEPARTMENT OF TRANSPORTATION

Coast Guard

33 CFR Part 117

[CGD11-01-015]

RIN 2115-AE47

Drawbridge Operation Regulations; Old River, California

AGENCY: Coast Guard, DOT.

ACTION: Notice of temporary deviation from regulations.

SUMMARY: The Commander, Eleventh Coast Guard District has approved a temporary deviation to the regulations governing the opening of the Burlington Northern & Santa Fe Railroad (BNSF), drawbridge at mile 10.4 across the Old River, Contra Costa County, California. The drawbridge need not open for vessel traffic between the hours of 9 a.m. and 6 p.m., 28 through 30 August, 2001 and 18 through 20 September, 2001. This deviation is to allow the bridge owner to perform essential mechanical repairs on the bridge.

DATES: The temporary deviation is effective from 9 a.m., August 28, 2001, through 6 p.m., September 20, 2001.

FOR FURTHER INFORMATION CONTACT: David H. Sulouff, Chief, Bridge Section; Eleventh Coast Guard District, Bldg. 50-6, Coast Guard Island, Alameda, CA 94501-5100, telephone (510) 437-3516.

SUPPLEMENTARY INFORMATION: The BNSF drawbridge, mile 10.4, over the Old River, Contra Costa County, California provides 11.2 feet vertical clearance above Mean High Water when closed. The Coast Guard received a request from the bridge owner for the temporary deviation from the existing operating regulation in 33 CFR 117.5, which requires drawbridges to open promptly and fully when a request to open is given. This deviation has been coordinated with commercial operators and various marinas on the waterway. No objections were received. Vessels that can pass under the bridge without an opening may do so at all times. The BNSF drawbridge across Middle River provides alternative access for vessel transits as provided in 33 CFR 117.171(b). In accordance with 33 CFR 117.35(c), this work shall be performed with all due speed in order to return the bridge to normal operation as soon as possible. This deviation from the normal operating regulations in 33 CFR 117.5 is authorized in accordance with the provisions of 33 CFR 117.35.

Dated: August 27, 2001.
E.R. Riutta,
Vice Admiral, U.S. Coast Guard, Commander, Eleventh Coast Guard District.

[FR Doc. 01-22779 Filed 9-10-01; 8:45 am]

BILLING CODE 4910-15-U